SECURITIES AND EXCHANGE COMMISSION

Sunshine Act Meeting

Federal Register Citation of Previous Announcement: [71 FR 6799, February 9, 2006].

Status: Closed meeting.

Place: 100 F Street, NW., Washington, DC.

Date and Time of Previously Announced Meeting: Wednesday, February 15, 2006 at 10 a.m.

Change in the Meeting: Deletion of item.

The following item will not be considered during the Closed Meeting on February 15, 2006: Report of an Investigation.

Commissioner Glassman, as duty officer, determined that no earlier notice thereof was possible.

At times, changes in Commission priorities require alterations in the scheduling of meeting items. For further information and to ascertain what, if any, matters have been added, deleted or postponed, please contact the Office of the Secretary at (202) 551-5400.

Dated: February 13, 2006.
Nancy M. Morris,
Secretary.

[FR Doc. 06-1492 Filed 2-13-06; 4:07 pm]

BILLING CODE 8010-01-P